DEPARTMENT OF TRANSPORTATION

National Highway Traffic Safety Administration

[Docket No. DOT-NHTSA-2021-0039]

Agency Information Collection Activities; Submission to the Office of Management and Budget for Review and Approval; State Data Transfer for Vehicle Crash Information

AGENCY: National Highway Traffic Safety Administration (NHTSA), Department of Transportation (DOT).

ACTION: Notice and request for approval of an extension of a currently approved information collection.

SUMMARY: In compliance with the Paperwork Reduction Act of 1995 (PRA), this notice announces that the Information Collection Request (ICR) summarized below will be submitted to the Office of Management and Budget (OMB) for review and approval. The ICR describes the nature of the information collection and its expected burden. The State Data Transfer (SDT) program is a voluntary collection of motor vehicle crash data that State agencies collect for their own needs. NHTSA received emergency clearance to conduct the information collection until December 31, 2021. A Federal Register Notice with a 60-day comment period soliciting comments on the following information collection was published on June 1, 2021. One comment from the Governors Highway Safety Association (GHSA) was received supporting NHTSA's SDT data collection and the request for emergency clearance to expedite this effort.

DATES: Comments must be submitted on or before November 19, 2021.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Michael Frenchik, Office of Data Acquisitions (NSA-0100), (202) 366-0641, National Highway Traffic Safety Administration, Room W53-303, 1200 New Jersey Avenue SE, Washington, DC 20590.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

Title: State Data Transfer (SDT) for Vehicle Crash Information.

OMB Control Number: 2127-0753.

Form Numbers: None.

Type of Request: Approval of an extension without modification of a currently approved information collection.

Type of Review Requested: Regular.

Length of Approval Requested: Three years.

Summary of the Collection of Information: The State Data Transfer (SDT) program is a voluntary collection of motor vehicle crash data. State agencies collect this information about motor vehicle crashes on Police Accident Reports (PARs) ¹ for their own needs. In general, a PAR includes information about the vehicles and individuals involved in a crash, injuries or fatalities resulting from a crash, roadway information, environmental information, information to reconstruct the crash scenes, etc. The SDT is a process through which participating States transfer their PAR data to NHTSA. SDT has two components that NHTSA's National Center for Statistics and Analysis (NCSA) calls protocols:

¹ Police Accident Reports are also known as Police Crash Reports (PCRs) in some jurisdictions.

1. The State Data System (SDS) protocol obtains PAR crash data from States that submit data on an annual basis to NCSA. The data is submitted via electronic media, such as encrypted CD-ROM/DVD, or through secured mail or a secure file transfer protocol (SFTP). Files submitted through the SDS protocol are referred to as “annual crash files.”

2. The Electronic Data Transfer (EDT) protocol obtains PAR crash data, crash reports or crash images from participating State crash systems through an electronic data transfer. Generally, this transfer occurs on a nightly basis following State data quality control checks and acceptance from each State's centralized database. The information is transmitted using Extensible Markup Language (XML) or JavaScript Object Notation (JSON) files through a web service using Hypertext Transfer Protocol Secure (HTTPS) protocol between a State's crash data system and NHTSA.

The SDT process allows States to submit all of their PAR data to NHTSA. NCSA will then use this data to develop a census of the participating State's crashes. The dataset will help NCSA identify existing and emerging highway safety trends and assess the effectiveness of motor vehicle safety standards and new and emerging technologies on vehicle and highway safety programs. NHTSA will also use the dataset to support NHTSA's Corporate Average Fuel Economy (CAFE) program. Specifically, NHTSA will use the data to analyze the effects vehicle mass has on fatalities in cost benefit analyses for CAFE rulemakings.

Description of the Need for the Information and Proposed Use of the Information: NHTSA plans to utilize the SDT data to identify existing and emerging highway safety trends, assess the effectiveness of motor vehicle safety standards, and study the impact of new and emerging technologies on vehicles and highway safety programs. For example, NHTSA plans to combine data from the SDT with information about the type of advanced driver assistance systems (ADAS) on crash-involved vehicles to estimate the effectiveness of vehicles equipped with ADAS technologies such as lane keeping support, automatic emergency braking, blind spot detection, etc.

NHTSA also plans to use the SDT data to automatically pre-populate the motor vehicle crash data it collects for several other NHTSA data collection programs. The following are brief descriptions of these data collection programs:

• FARS (OMB Control No. 2127-0006) is a nationwide census of fatalities caused by motor vehicle traffic crashes. In addition to PAR data, FARS includes detailed information regarding the location of the crash, the vehicles, and the people involved. FARS cases can also include toxicology report data, medical records, medical examiner reports, etc.²

² Additional details about FARS and how the agency collects this information are available in the supporting statements for the ICR with OMB Control No. 2127-0006.

• CRSS (OMB Control No. 2127-0714) is a nationally representative sample of police-reported crashes involving all types of motor vehicles, pedestrians, and cyclists, ranging from property-damage-only crashes to those that result in fatalities. CRSS data elements are a subset of the data elements on each State's PAR.³

³ Additional details about CRSS and how the agency collects this information are available in the supporting statements for the ICR with OMB Control No. 2127-0714.

• CISS (OMB Control Number 2127-0706) is a nationally representative sample of minor, serious, and fatal crashes involving at least one passenger vehicle—cars, light trucks, sport utility vehicles, and vans—towed from the scene. CISS collects data at both the crash level through scene analysis and the vehicle level through vehicle damage assessment together with injury coding. Data collected through CISS expands upon the information that is collected in a PAR.⁴

⁴ Additional details about CISS and how the agency collects this information are available in the supporting statements for the ICR with OMB Control No. 2127-0706.

• The SCI Program provides NHTSA with the most in-depth crash data collected by the agency. The data collected ranges from basic information contained in routine police and insurance crash reports, to comprehensive data from special reports produced by professional crash investigation teams. Hundreds of data elements relevant to the vehicle, occupants, injury mechanisms, roadway, and safety systems are collected for each of the over 100 crashes designated for study annually.

• NTS is a virtual data collection system designed to provide counts and details regarding fatalities and injuries that occur in non-traffic crashes and in non-crash incidents. NTS non-traffic crash data is obtained through NHTSA's information collections for CRSS and FARS. NTS non-crash injury data is based upon emergency department records from a special study conducted by the Consumer Product Safety Commission's National Electronic Injury Surveillance System (NEISS) All Injury Program. NTS non-crash fatality data is derived from death certificate information from the Centers for Disease Control's National Vital Statistics System.

• CIREN combines crash data collection with professional multidisciplinary analysis of medical and engineering evidence to determine injury causation in every crash investigation conducted. The mission of the CIREN is to improve the prevention, treatment, and rehabilitation of motor vehicle crash injuries to reduce deaths, disabilities, and human and economic costs.

Until recently, the transfer of vehicle crash data from a State's crash data system to NHTSA's FARS, CRSS and CISS required individuals to manually enter State vehicle crash data into each of the crash data systems operated by NHTSA. The SDT program will allow NHTSA to automate the transfer of State motor vehicle crash data into NHTSA's other data collection efforts that use this information. NHTSA's SDT program will reduce the burden for manual data entry and result in more accurate, high quality and timely data to help save lives, prevent injuries, and reduce economic costs due to motor vehicle crashes.

In addition, the SDT data will be made available to other DOT agencies, such as the Federal Highway Administration and the Federal Motor Carrier Safety Administration, to support their mission to save lives on our national roadways.

Request for Emergency Clearance: NHTSA requested emergency clearance from OMB for the SDT information collection. NHTSA requested emergency clearance for the maximum permissible period under 5 CFR 1320.13 (f) to allow NHTSA to collect the information while it completes the normal clearance procedures. NHTSA sought emergency clearance because the data collected through the SDT program are critical to several high priority projects for this administration. The SDT data will be used to analyze the effects vehicle mass has on fatalities in cost benefit analyses for CAFE rulemakings. Executive Order 13990 requires NHTSA to “as appropriate and consistent with applicable law, [. . .] consider publishing for notice and comment a proposed rule suspending, revising, or rescinding” the SAFE II Rule “by July 2021.” Following the normal clearance procedures will not allow NHTSA to receive approval to collect and use this data before the deadline.

The Partnership for Analytics Research in Traffic Safety (PARTS) also needs this data to help determine the effectiveness of automated driver assistance systems (ADAS) with Departmental leadership expecting initial analyses later this year.

Given the priorities identified above, this information is needed before NHTSA can complete the normal clearance procedures under 5 CFR part 1320. OMB approved the emergency clearance through December 31, 2021.

60-Day Notice: On June 1, 2021, NHTSA published a notice in the Federal Register with a 60-day comment period soliciting comments on this ICR.⁵ NHTSA received one comment from the Governors Highway Safety Association (GHSA). In their comment, GHSA expressed support for NHTSA's SDT data collection and the request for emergency clearance to expedite this effort. GHSA stated that it appreciates that the data collection is voluntary and agrees with NHTSA “that several States will likely continue to face participation barriers.” GHSA further noted that it understands that the electronic transfer of Stata crash data reduces time and cost to States that participate and will continue to partner with NHTSA to promote SDT.

⁵ 86 FR 29354.

Affected Public: State Governments.

This voluntary information collection involves State governments, and specifically the State agencies that collect crash data.

Estimated Number of Respondents: 38.

Currently, 31 States are voluntarily submitting their annual crash database to NHTSA using the SDS protocol once the Annual file is complete and 19 States are voluntarily submitting their State's data using the EDT protocol where the transfer occurs on a nightly basis. NHTSA estimates that, on average, in each of the next three years, there will be 31 States submitting data using the SDS protocol and 23 States submitting data using the EDT protocol. NHTSA estimates that there will be 15 States submitting data through both EDT and SDS. Therefore, NHTSA estimates the total number of respondents to be 38.

Frequency: The frequency of this information collection varies State-by-State, potentially from daily to annually, as agreed upon by NHTSA and the individual States. States participating in the SDS protocol typically send a file to NHTSA once a year with all the crashes occurring during a calendar year. A State will send these files when it has completed its quality control process. For the EDT States, the data is usually transferred every night with the crash cases that have completed the quality control process since the last nightly transfer.

Number of Reponses: NHTSA estimates total annual responses based on NHTSA's estimate that SDS protocol States will submit files once a year and EDT protocol States will send data to NHTSA automatically on a nightly basis. Therefore, NHTSA estimates that it will receive 31 SDS responses a year (31 SDS States × 1 annual response) and 8,395 EDT responses a year (23 EDT States × 365 nightly responses).

Estimated Total Annual Burden Hours: 683 hours.

SDT receives the crash data from States in two different ways. SDS information is obtained annually from States submitted in a more traditional method via electronic media through secured mail or a Secure File Transfer Protocol (SFTP). NHTSA assumes a participating State already has a centralized electronic crash database. Currently, 31 States are voluntarily submitting their annual crash database to NHTSA, with five States sending electronic media and 26 states uploading the database to an SFTP site. Since NHTSA accepts the States' centralized electronic crash database without changes, NHTSA estimates that it will require eight hours for a State Database Administrator to save a copy of the State's annual crash database onto a SFTP site or electronic media. We estimate an additional four hours will be required for an administrative assistant to package and send the electronic media to NHTSA.

To estimate the labor cost associated with submitting the SDS information, NHTSA looked at wage estimates for the type of personnel involved with copying, packaging and sending the database. NHTSA estimates the total labor costs associated with copying the database by looking at the average wage for Database and Network Administrator and Architects. The Bureau of Labor Statistics (BLS) estimates that the average hourly wage for Database and Network Administrator and Architects (Standard Occupational Classification #15-1240, May 2020) is $47.80.⁶ The Bureau of Labor Statistics estimates that State and local government workers' wages represent 61.9% of total labor compensation costs.⁷ Therefore, NHTSA estimates the hourly labor costs for copying the database to be $77.22 ($47.80 ÷ 61.9%) for Database and Network Administrator and Architects. The cost associated with the eight hours of Database and Network Administrator labor is estimated to be $617.76 per respondent.

⁶ See May 2020 National Occupational Employment and Wage Estimates United States, available at https://www.bls.gov/oes/current/oes_nat.htm (accessed April 16, 2021).

⁷ See Table 1. Employer Costs for Employee Compensation by ownership (Dec. 2020), available at https://www.bls.gov/news.release/ecec.t01.htm (accessed April 16, 2021).

For the 5 States sending electronic media, NHTSA estimates the total labor costs for packing and sending the database by looking at the average wage for Secretaries and Administrative Assistants. The BLS estimates that the average hourly wage for Secretaries and Administrator Assistants (Standard Occupational Classification #43-6014, May 2020) is $19.43.⁸ By using the same estimate that wages represent 61.9% of the total compensation cost of labor, NHTSA estimates the total labor hour for packing and sending the database on electronic media to be $31.39. Therefore, the cost associated with the four hours to send the electronic media is estimated to be $125.56 per respondent.

⁸ See May 2020 National Occupational Employment and Wage Estimates United States, available at https://www.bls.gov/oes/current/oes_nat.htm (accessed April 16, 2021).

Combining these copying and packing and sending burden estimates for SDS, NHTSA estimates that the total burden hours associated with this collection will be 268 (248 + 20 hours) hours and total labor cost associated with the collection will be $19,151 ($617.76 × 31 States) for copying and $628 ($125.56 × 5 States) for packing and sending, for a total of $19,779 ($19,151 + $628) for the SDS protocol.

SDS Burden Estimate Summary
Burden type | Respondents | Burden hours per respondent | Total burden hours | Labor cost per burden hour | Labor cost per respondent | Total labor cost
SDS Copying | 31 | 8 | 248 | $77.22 | $617.76 | $19,150,56 19,151
SDS Packing and sending | 5 | 4 | 20 | 31.39 | 125.56 | 627.80 628
Total |  |  | 268 |  |  | 19,779

The EDT protocol burden hour estimate is based on the level of effort reported by the States that have fully implemented SDT. NHTSA estimates that in each of the next three years, there will be two new States joining the 19 States already participating in SDT program using the EDT protocol. Therefore, NHTSA estimates that there will be, on average, 23 EDT protocol States in each of the next three years. Cost and burden estimates for the EDT protocol are divided in two: a one-time implementation effort, and an annual maintenance effort. Both estimates assume a participating State already has a centralized electronic crash database. The burden for the one-time implementation of the SDT program is estimated at 200 hours. NHTSA estimates that these hours will account for work done by State IT (150 hrs.) and FARS program personnel (50 hrs.).

Once implemented, the hourly burden on States associated with SDT maintenance is estimated at five hours per year, based upon currently participating States' experiences. This time is generally used to troubleshoot any connection issues or refine mapping protocols for any data elements that have changed.

NHTSA estimates the cost for IT personnel burden hours using the Bureau of Labor Statistics' mean wage estimate for Software developers and Programmers (Standard Occupational Classification # 15-1250) of $52.86.⁹ The Bureau of Labor Statistics estimates that for State and local government workers, wages represent 61.9% of total compensation.¹⁰ Therefore, the total hourly cost associated with the IT burden hours is estimated to be $85.40 per hour. The cost associated with the 150 hours of IT personnel labor is estimated to be $12,810.00 per respondent. Initial SDT implementation is also expected to involve 50 hours of FARS program personnel time. There is no additional cost to the States associated with these hours because these costs may be charged to the Federal Government through the FARS cooperative agreements. Thus, total labor cost for EDT implication costs per State are estimated to be $12,810.00. The total annual implementation burden cost per year is estimated to be $25,620 ($12,810.00 × 2 new State respondents).

⁹ See May 2020 National Occupational Employment and Wage Estimates United States, available at https://www.bls.gov/oes/current/oes_nat.htm (accessed April 16, 2021).

¹⁰ Employer Costs for Employee Compensation by ownership (Dec. 2020), available at https://www.bls.gov/news.release/ecec.t01.htm (accessed April 16, 2021).

After initial implementation of a SDT interface, the ongoing cost burden to participating States is estimated at 5 hours per State annually, based on a survey of currently participating States. Per the loaded labor rates for State IT staff outlined above, 5 hours of work translates to an estimated total annual maintenance burden of $427.00 per State respondent maintaining participation in the SDT program. NHTSA estimates that there will be, on average, 23 States participating in EDT program in each of the next three years. Therefore, the annual maintenance cost for the States is a total of $9,821.00 ($427.00 × 23 States) per year.

Combining these implementation and maintenance burden estimates for the EDT protocol, NHTSA estimates that the total burden hours associated with this collection will be 415 hours and total labor cost associated with the collection will be $35,441.00.

EDT Burden Estimate Summary
Burden type | Respondents | Burden hours per respondent | Total burden hours | Labor cost per burden hour | Labor cost per respondent | Total labor cost
EDT IT Implementation | 2 | 150 | 300 | $85.40 | $12,810.00 | $25,620.00 25,620
EDT Maintenance | 23 | 5 | 115 | 85.40 | 427.00 | 9,821.00 9,821
Total |  |  | 415 |  |  | 35,441

The total estimated burden for SDT is 683 (268 SDS + 415 EDT) and total estimated labor cost is $55,220 ($19,779 SDS + $35,441 EDT).

A summary of the burden estimates is provided in the table below.

SDT Burden Estimate Summary
Burden type | Respondents | Total annual responses | Total burden hours | Average burden hours per respondent | Total labor cost | Labor cost per respondent
SDS | 31 | 31 | 268 | 9 | $19,779 | $638
EDT | 23 | 8,395 | 415 | 18 | 35,441 | 1,541
Total |  |  | 683 |  | 55,220 |

Estimated Total Annual Burden Cost: $0.

NHTSA does not expect that participating states will incur any costs beyond the labor hour cost associated with the burden hours.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29.

Chou-Lin Chen,
Associate Administrator, National Center for Statistics and Analysis.

[FR Doc. 2021-22824 Filed 10-19-21; 8:45 am]

BILLING CODE 4910-59-P